DEPARTMENT OF JUSTICE

Notice of Lodging of Proposed Settlement Agreement Under The Comprehensive Environmental Response, Compensation, and Liability Act

On September 24, 2013, the Department of Justice lodged a proposed Settlement Agreement with the United States Bankruptcy Court for the District of Delaware in the case entitled In re Apco Liquidating Trust, Case No. 05-12355 (BLS), Adv. Pro. No. 07-51670 (Bankr. D. Del.).

The United States filed a proof of claim in February 2006, in this bankruptcy action for costs incurred and to be incurred in connection with the Oklahoma Refining Company Superfund Site (“Site”), located in Cyril, Caddo County, Oklahoma, pursuant to Section 107 of the Comprehensive Environmental Response, Compensation, and Liability Act (“CERCLA”), 42 U.S.C. 9607. Under the Settlement Agreement, the Apco Liquidating Trust agrees to pay the United States, on behalf of EPA, $14 million in satisfaction of the United States' allow claim that will be used to finance and perform the work at the Site, and to reimburse the United States for past costs incurred at the Site. The Apco Liquidating Trust also agrees to dismiss with prejudice its adversary proceeding against the General Services Administration in connection with the Site.

The publication of this notice opens a period for public comment on the proposed settlement agreement. Comments should be addressed to the Assistant Attorney General, Environment and Natural Resources Division, and should refer to In re Apco Liquidating Trust, Case No. 05-12355 (BLS), Adv. Pro. No. 07-51670 (Bankr. D. Del.). All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under Section 7003(d) of the Resource Conservation and recovery Act (“RCRA”), a commenter may request an opportunity for a public meeting in the affected area.

During the public comment period, the proposed settlement agreement may be examined and downloaded at this Justice Department Web site: http://www.usdoj.gov/enrd/Consent_Decrees.html. We will provide a paper copy of the proposed settlement agreement upon written request and payment of reproduction costs. Please mail your request and payment to: Consent Decree Library, U.S. DOJ—ENRD, P.O. Box 7611, Washington, DC 20044-7611.

Please enclose a check or money order for $11.00 (25 cents per page reproduction cost) payable to the United States Treasury.

Thomas P. Carroll,
Assistant Section Chief, Environmental Enforcement Section, Environment and Natural Resources Division.

[FR Doc. 2013-23633 Filed 9-26-13; 8:45 am]

BILLING CODE 4410-15-P